DEPARTMENT OF ENERGY

Federal Energy Regulatory Commission

[Docket No. CP01-4-001; CP01-5-002]

Maritimes & Northeast Pipeline L.L.C., and Algonquin Gas Transmission Company; Notice of Intent To Prepare an Environmental Assessment for the Proposed Maritimes Phase III/Hubline Project Amendments and Request for Comments on Environmental Issues

March 18, 2002.

The staff of the Federal Energy Regulatory Commission (FERC or Commission) will prepare an environmental assessment (EA) that will discuss the environmental impacts of the amended Maritimes Phase III/HubLine Project involving construction and operation of facilities by Maritimes & Northeast Pipeline, L.L.C. (Maritimes) in Essex County, Massachusetts and Algonquin Gas Transmission Company (Algonquin) in primarily offshore Essex, Suffolk, Plymouth, and Norfolk Counties, Massachusetts.¹ There would be minor onshore facilities in Essex, Suffolk and Norfolk Counties. The amendment would change the diameter of the already approved offshore pipeline facilities from 16 to 24 inches in diameter and from 24 to 30 inches in diameter. This EA will be used by the Commission in its decision-making process to determine whether the amendment is in the public convenience and necessity.

¹ Maritimes' and Algonquin's applications were filed with the Commission under section 7 of the Natural Gas Act and part 157 of the Commission's regulations.

All applicable landowners were informed of the previously approved project and had an opportunity to participate in the process which resulted in its approval.

Summary of the Proposed Amendment

Maritimes wants to increase the diameter of its approved Phase III facilities from the Salem Meter Station to its connection with Algonquin's approved HubLine facilities in Beverly, Massachusetts. Maritimes has approval to construct and operate approximately 23.8 miles of 30-inch-diameter pipeline and 1.0 mile of 24-inch-diameter pipeline; and appurtenant facilities to include three mainline valves, one tap valve, two cathodic protection ground beds, and two meter stations. Algonquin has approval to construct and operate approximately 29.4 miles of 24-inch-diameter offshore mainline pipeline; approximately 5.4 miles of 16-inch-diameter offshore lateral pipeline to the existing Massachusetts Water Resources Authority (MWRA) Waste Water Treatment facility on Deer Island; and one new meter station on Deer Island, and a block valve and receiver and regulator facilities near the interconnect with the existing I-9 pipeline. Maritimes seeks authority to:

• Change the diameter of the approximately 1.0 mile of 24-inch-diameter pipeline to 30 inches; and

• Modify the Salem Meter Station by deleting the launcher/receiver and changing some of the metering and piping to accommodate the larger diameter pipe.

Algonquin seeks authority to:

• Change the diameter of the approximately 29.4 miles of 24-inch-diameter offshore mainline pipeline to 30 inches;

• Change the diameter of the approximately 5.4 miles of 16-inch-diameter offshore lateral pipeline to the existing Massachusetts Water Resources Authority (MWRA) Waste Water Treatment facility on Deer Island to 24 inches; and

• Modify the one new meter station on Deer Island, and a block valve and receiver and regulator facilities near the interconnect with the existing I-9 pipeline to accommodate the larger diameter pipe.

Land Requirements for Construction

The change in the pipeline diameter would result in no additional onshore land requirements from those already approved. Construction of the proposed offshore facilities with the larger pipeline diameter would disturb about 7 more acres of sea floor than currently approved.

The EA Process

The National Environmental Policy Act (NEPA) requires the Commission to take into account the environmental impacts that could result from an action whenever it considers the issuance of a Certificate of Public Convenience and Necessity. NEPA also requires us ² to discover and address concerns the public may have about proposals. We call this “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

² ”We”, “us”, and “our” refer to the environmental staff of the Office of Energy Projects (OEP).

The EA will discuss impacts that could occur as a result of the construction and operation of the proposed amendment under these general headings:

• Sediments

• Cultural resources

• Endangered and threatened species

• Water resources, fisheries

• Vegetation

We will also evaluate possible alternatives to the proposed modifications, and, if necessary, make recommendations on how to lessen or avoid impacts on the various resource areas.

Our independent analysis of the issues will be in the EA.

To ensure your comments are considered, please carefully follow the instructions in the public participation section in this NOI beginning on page 5.

Currently Identified Environmental Issues

No additional environmental concerns beyond those identified in the final environmental impact statement ³ for the approved project have been identified for this amendment. As a result we do not anticipate revisiting many of the issues already covered by the final environmental impact statement prepared for the approved project. We also do not anticipate the need to issue the EA for public comment.

³ Phase III/HubLine Project Final Environmental Impact Statement, FERC/EIS-0136, November 2001.

Public Participation

You can make a difference by providing us with your specific comments or concerns about the amendment. By becoming a commentor, your concerns will be addressed in the EA and considered by the Commission. You should focus on the potential environmental effects of the amendment, alternatives to the amendment, and measures to avoid or lessen environmental impact. The more specific your comments, the more useful they will be. Please carefully follow these instructions to ensure that your comments are received in time and properly recorded:

• Send an original and two copies of your letter to:

Magalie R. Salas, Secretary

Federal Energy Regulatory Commission 888 First St., NE, Room 1A

Washington, DC 20426

• Label one copy of the comments for the attention of Gas Branch 2.

• Reference Docket Nos. CP01-4-001 and CP01-5-002.

• Mail your comments so that they will be received in Washington, DC on or before April 17, 2002.

Please note that we are continuing to experience delays in mail deliveries from the U.S. Postal Service. As a result, we will include all comments that we receive within a reasonable time frame in our environmental analysis of this amendment. However, the Commission encourages electronic filing of any comments or interventions or protests to this proceeding. See 18 CFR 385.2001(a)(1)(iii) and the instructions on the Commission's Web site at http://www.ferc.gov under the “e-Filing” link and the link to the User's Guide. Before you can file comments you will need to create an account which can be created by clicking on “Login to File” and then “New User Account.”

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 1).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Additional information about the proposed amendment is available from the Commission's Office of External Affairs at (202) 208-1088 (direct line) or you can call the FERC operator at 1-800-847-8885 and ask for External Affairs. Information is also available on the FERC Web site, www.ferc.gov, using the “RIMS” link to information in this docket number. Click on the “RIMS” link, select “Docket #” from the RIMS Menu, and follow the instructions. For assistance with access to RIMS, the RIMS helpline can be reached at (202) 208-2222.

Similarly, the “CIPS” link on the FERC Internet Web site provides access to the texts of formal documents issued by the Commission, such as orders, notices, and rulemakings. From the FERC Internet Web site, click on the “CIPS” link, select “Docket #” from the CIPS menu, and follow the instructions. For assistance with access to CIPS, the CIPS helpline can be reached at (202) 208-2222.

Magalie R. Salas,
Secretary.

[FR Doc. 02-7034 Filed 3-22-02; 8:45 am]

BILLING CODE 6717-01-P